DEPARTMENT OF THE INTERIOR

Fish and Wildlife Service

[FWS-R8-ES-2019-N053; FXES11140800000-190-FF08E00000]

Green Diamond Resource Company Final Forest Habitat Conservation Plan and Final Environmental Impact Statement; Humboldt and Del Norte Counties, CA

AGENCY: Fish and Wildlife Service, Interior.

ACTION: Notice of availability of final environmental impact statement and final habitat conservation plan.

SUMMARY: We, the U.S. Fish and Wildlife Service (Service), announce the availability of a final environmental impact statement (FEIS) under the National Environmental Policy Act. We also announce the availability of the final habitat conservation plan (HCP). These documents were prepared in support of a permit application submitted to us under the Endangered Species Act. We will use these documents to inform our decision regarding issuance of the permit.

DATES: A record of decision will be signed no sooner than 30 days after the publication of this notice of availability in the Federal Register.

ADDRESSES:

Obtaining Documents: You may obtain copies of the FEIS and other documents by the following methods.

• Internet: https://www.fws.gov/arcata/es/HCP.htm.

• Public libraries: Electronic copies of the documents will be available for viewing at Del Norte and Humboldt County Libraries on their public access computer stations. In Del Norte County, the documents will be available at the Main Library in Crescent City and at the branch library in Smith River. In Humboldt County, the documents will be at the Eureka Main Library, and at branch libraries in Arcata, McKinleyville, and Willow Creek.

FOR FURTHER INFORMATION CONTACT: Jennifer L. Norris, Deputy Field Supervisor, by phone at 707-822-7201, or via U.S. mail to U.S. Fish and Wildlife Service, 1655 Heindon Road, Arcata, CA 95521-4573.

SUPPLEMENTARY INFORMATION: Under the Endangered Species Act of 1973, as amended (ESA; 16 U.S.C. 1531 et seq.), Green Diamond Resource Company has applied for a 50-year incidental take permit (ITP); the applicant prepared the final Green Diamond Resource Company Forest Habitat Conservation Plan (HCP) pursuant to section 10(a)(1)(B) of the ESA. We, the U.S. Fish and Wildlife Service (Service), announce the availability of the HCP, and also announce the availability of the final environmental impact statement (FEIS) under the National Environmental Policy Act of 1967 (42 U.S.C. 4321 et seq.). These documents were both prepared in support of the permit application. We will use these documents to inform our decision regarding issuance of the permit.

Background

Section 9 of the ESA (16 U.S.C. 1531 et seq.) and our Federal regulations (50 CFR part 17) prohibit the taking of fish and wildlife species listed as endangered or threatened under section 4 of the ESA. Regulations governing permits for endangered and threatened species are at 50 CFR 17.22 and 17.32, respectively. For more information about the Federal habitat conservation plan program, go to http://www.fws.gov/endangered/esa-library/pdf/hcp.pdf.

The Migratory Bird Treaty Act of 1918 (MBTA; 16 U.S.C. 703-712) protects over 1,000 species of birds, including the barred owl. The MBTA provides that it is unlawful to pursue, hunt, take, capture, kill, possess, sell, purchase, barter, import, export, or transport any migratory bird, or any part, nest, or egg of any such bird, unless authorized under a permit issued by the Secretary of the Interior. As authorized by the MBTA, the Service may issue permits for scientific collecting (50 CFR 21.23).

Applicant's Final Habitat Conservation Plan

Proposed Action Alternative

The Proposed Action Alternative is implementation of the final HCP; issuance of a 50-year ITP authorizing incidental take of the northern spotted owl, fisher, red tree vole, and Sonoma tree vole that may occur as a result of implementation of the HCP; and issuance of an MBTA permit for barred owl experiments.

Plan Area

The HCP area encompasses 357,412 acres in Humboldt and Del Norte Counties, California.

Covered Activities

The HCP contains conservation measures considered necessary to minimize and mitigate the impacts, to the maximum extent practicable, of the potential taking of federally listed species to be covered by the HCP. The covered activities under the HCP are those associated with commercial forest management within the plan area.

Covered Species

The proposed ITP includes one bird species, the northern spotted owl (Strix occidentalis caurina), which is federally listed as threatened. Three mammal species with no Federal listing status are also proposed to be covered—The fisher (Pekania pennanti), red tree vole (Arborimus longicaudus), and Sonoma vole (Arborimus pomo). In addition, experiments on barred owl (Strix varia) will be conducted as part of implementation of the HCP for the benefit of northern spotted owls.

National Environmental Policy Act Compliance

The final EIS analyzed four land management alternatives. These include a “no action” alternative, which allows the existing 30-year incidental take permit to expire at the end of its term in 2022 with no permit replacement. The proposed action consists of a four-species HCP and associated permit with a 50-year term. Two other “action” alternatives are included. Alternatives A and B evaluate a single-species HCP and 50-year permit for the northern spotted owl only. Alternative B differs from Alternative A by proposing a shift in Green Diamond company policy from even-aged forest management toward uneven-aged forest management.

Public Review

The Service published a notice of intent to prepare an EIS in the Federal Register on April 16, 2010 (75 FR 19994), announcing a 30-day public scoping period, during which the public was invited to provide written comments. The Service published a notice of availability (NOA) of the draft EIS and draft HCP in the Federal Register on July 23, 2018 (83 FR 34861). The NOA announced a 45-day public comment period, during which the public was invited to provide written comments. In accordance with NEPA, the Environmental Protection Agency (EPA) will announce the final EIS in the Federal Register.

Next Steps

Issuance of an ITP is a Federal proposed action subject to compliance with NEPA. We will evaluate the application, associated documents, and the public comments we received to determine whether the requirements of NEPA regulations and section 10(a) of the ESA have been met. If we determine that those requirements are met, we will issue a record of decision no sooner than 30 days after the EPA publishes notice of the final EIS in the Federal Register. Subsequently, we will issue a permit to the applicant for the incidental take of the covered species.

Authority

We provide this notice under section 10(c) of the ESA (16 U.S.C. 1531 et seq.) and its implementing regulations (50 CFR 17.22), the MBTA (16 U.S.C. 703 et seq.) and its implementing regulations (50 CFR 21.23), and NEPA (42 U.S.C. 4321 et seq.) and its implementing regulations (40 CFR 1506.6).

Jody Holzworth,
Deputy Regional Director, Pacific Southwest Region, Sacramento, California.

[FR Doc. 2019-09112 Filed 5-2-19; 8:45 am]

BILLING CODE 4310-55-P